DEPARTMENT OF HEALTH AND HUMAN SERVICES

Administration for Children and Families

Proposed Information Collection Activity; Comment Request

Proposed Projects

Title: Title IV-E Foster Care Eligibility Reviews; Child and Family Services Reviews; Anti-Discrimination Enforcement.

OMB No. 0970-0214.

Description: The Administration for Children and Families (ACF) is requesting authority to renew an existing information collection that is expiring October 31, 2006. The initial information collection was contained in the final rule transmitting the Department's monitoring protocols for assessing title IV-E eligibility and payment accuracy, the Child and Family Services Reviews (CFSR), enforcement of the title IV-E anti-discrimination requirements, and certain provisions of the Adoption and Safe Families Act of 1997. Five separate activities are associated with this information collection.

The collection of information for review of Federal payments to States for foster care maintenance payments (45 CFR 1356.71(i)) is authorized by title IV-E of the Social Security Act (the Act), section 474 [42 U.S.C. 674]. The Foster Care Eligibility Reviews (FCER) ensure that States claim title IV-E funds on behalf of title IV-E eligible children.

The collection of information for review of State child and family services programs (45 CFR 1355.33(b), 1355.33(c) and 1355.35(a)) to determine whether such programs are in substantial conformity with State plan requirements under parts B and E of the Act is authorized by section 1123(a) [42 U.S.C. 1320a-1a] of the Act. The CFSR looks at both the outcomes related to safety, permanency and well-being of children served by the child welfare system and at seven systemic factors that support the outcomes.

Section 474(d) of the Act [42 U.S.C. 674] deploys enforcement provisions (45 CFR 1355.38(b) and (c)) for the requirements at section 471(a)(18) [42 U.S.C. 671], which prohibit the delay or denial of foster and adoptive placements based on the race, color, or national origin of any of the individuals involved. The enforcement provisions include the execution and completion of corrective action plans when a State is in violation of section 471(a)(18).

The information collection is needed: (1) To conduct Federal onsite eligibility reviews of the title IV-E foster care program; (2) to monitor State plan requirements under titles IV-B and IV-E of the Act, as required by Federal statute; and (3) to enforce the title IV-E anti-discrimination requirements through State corrective action plans. The resultant information will allow ACF to determine if States are in compliance with State plan requirements and are achieving desired outcomes for children and families, as well as ensure that claims by States for title IV-E funds are made on behalf of title IV-E eligible children. These reviews not only address compliance with eligibility requirements, but also assist States in enhancing their capacities to serve children and families. In computing the number of burden hours for this information collection, ACF based the annual burden estimates on ACF's and States' experiences in conducting reviews and developing program improvement plans.

Respondents: State Agencies.

Annual Burden Estimates
Instrument | Number of respondents | Number of responses per respondent | Average burden hours per response | Total burden hours
45 CFR 1356.71(i) Program improvement plan (FCER) | 5 | 1 | 90 | 450
45 CFR 1355.33(b) State agency statewide assessment (CFSR) | 13 | 1 | 240 | 3,120
45 CFR 1355.33(c) On-site review (CFSR) | 13 | 1 | 1,170 | 15,210
45 CFR 1355.35(a) Program improvement plan (CFSR) | 13 | 1 | 240 | 3,120
45 CFR 1355.38(b) and (c) Corrective action plan (Anti-discrimination enforcement) | 1 | 1 | 780 | 780

Estimated Total Annual Burden Hours: 22,680.

In compliance with the requirements of section 3506(c)(2)(A) of the Paperwork Reduction Act of 1995, the Administration for Children and Families is soliciting public comment on the specific aspects of the information collection described above. Copies of the proposed collection information can be obtained and comments may be forwarded by writing to the Administration for Children and Families, Office of Administration, Office of Information Services, 370 L'Enfant Promenade, SW., Washington, DC 20447, Attn: ACF Reports Clearance Officer. E-mail: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 15, 2006.
Robert Sargis,
Report Clearance Officer.

[FR Doc. 06-5606 Filed 6-21-06; 8:45 am]

BILLING CODE 4184-01-M